DEPARTMENT OF HEALTH AND HUMAN SERVICES

National Institutes of Health

National Cancer Institute; Amended Notice of Meeting

Notice is hereby given of a change in the meeting of the National Cancer Institute Board of Scientific Advisors, March 21, 2017, 8:30 a.m. to March 22, 2017, 12:00 p.m., National Institutes of Health, Building 31 Center Drive, Conference Room 6, Bethesda, MD 20892 which was published in the Federal Register on February 22, 2017, 82 FR 11363.

The meeting notice is amended to change the meeting date to March 21, 2017. The location and time remain the same. The meeting is open to the public.

Dated: February 27, 2017.
Melanie J. Pantoja,
Program Analyst, Office of Federal Advisory Committee Policy.

[FR Doc. 2017-04074 Filed 3-2-17; 8:45 am]

BILLING CODE 4140-01-P